DEPARTMENT OF HEALTH AND HUMAN SERVICES

Administration for Children and Families

Submission for OMB Review; Comment Request

Title: Assets for Independence Program Performance Management and Report to Congress Data Collection Form.

OMB No.: New Collection.

Description: The Assets for Independence (AFI) program is a program authorized by Section 403 of the Community Opportunities, Accountability, and Training and Educational Services Act of 1998 (the Act). The Office of Community Services (OCS) within the U.S. Department of Health and Human Services (HHS) administers the AFI program to support innovative asset-building projects that feature Individual Development Accounts (IDAs), financial education, and related services. The Act requires AFI program grantees to submit annual reports to OCS with detailed information about project operations and participant activities. The information collected is issued by OCS for performance management and to prepare mandated Reports to Congress.

The AFI Program Performance Management and Report to Congress Data Collection Form is used to collect eight categories of information, as required by the Act. Examples of the types of information collected include: Project features; the number and characteristics of project participants; amounts of participant savings and matching funds deposited in the IDAs; amounts withdrawn from the IDAs; the withdrawal purposes; and current balances in participant IDAs. The data collection form is an online from available on the OCS asset-building Web site. Grantees provided training and technical assistance in completing the form.

Respondents: Organizations receiving funding to implement an AFI program.

Instrument | Number of respondents | Number of responses per respondent | Average burden hours per response | Total burden hours
Assets for Independence Program Performance Management and Report to Congress Data Collection Form | 400 | 1 | 10 | 4,000

Estimated Total Annual Burden Hours:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Dated: November 19, 2007.
Robert Sargis,
Reports Clearance Officer.

[FR Doc. 07-5831 Filed 11-26-07; 8:45 am]

BILLING CODE 4184-01-M